DEPARTMENT OF THE INTERIOR

National Park Service

[NPS-WASO-NRNHL-DTS#-32072; PPWOCRADI0, PCU00RP14.R50000]

National Register of Historic Places; Notification of Pending Nominations and Related Actions

AGENCY: National Park Service, Interior.

ACTION: Notice.

SUMMARY: The National Park Service is soliciting electronic comments on the significance of properties nominated before May 29, 2021, for listing or related actions in the National Register of Historic Places.

DATES: Comments should be submitted electronically by June 28, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 29, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Glaus House, 6330 East McDonald Dr., Paradise Valley, SG100006706

CALIFORNIA

San Diego County

Munk, Walter and Judith, House, 9530 La Jolla Shores Dr., San Diego, SG100006710

COLORADO

Arapahoe County

Englewood I.O.O.F. Lodge No. 138 Building, 3421, 3425 and 3427 South Broadway, Englewood, SG100006716

MONTANA

Yellowstone County

Billings Communal Mausoleum, 1704 Central Ave., Billings, SG100006704

OREGON

Multnomah County

Montgomery Ward & Company (Boundary Decrease II), 2741 NW Vaughn St., Portland, BC100006705

TENNESSEE

Coffee County

T-201 Aircraft Hangar, 707 William Northern Blvd., Tullahoma, SG100006711

Hamilton County

Price-Evans Foundry, 901 South Holtzclaw Ave., Chattanooga, SG100006713

Beck Knob Cemetery, 875 Dartmouth St., Chattanooga, SG100006714

Marion County

Big Hill Fire Lookout Tower, (Tennessee Division of Forestry Fire Lookout Towers MPS), 1657 Lower Fire Tower Rd., Sequatchie vicinity, MP100006708

Overton County

Twinton Fire Lookout Tower, (Tennessee Division of Forestry Fire Lookout Towers MPS), Threet Rd., Crawford vicinity, MP100006707

Shelby County

Overton Park Court Apartments, (Residential Resources of Memphis MPS), 2095 Poplar Ave., Memphis, MP100006712

Union County

Chuck Swan Fire Lookout Tower, (Tennessee Division of Forestry Fire Lookout Towers MPS), Main Forest Rd., Sharps Chapel vicinity, MP100006709

UTAH

Davis County

Cheney, Leroy and Alice, House, (Centerville MPS), 676 North Main St., Centerville, MP100006718

Salt Lake County

Palace Apartments, (Salt Lake City MPS), 145 South 300 East, Salt Lake City, MP100006717

WASHINGTON

Jefferson County

Landes, Colonel Henry, House, 1034 Franklin St., Port Townsend, SG100006702

Klickitat County

Stonehenge Memorial, Stonehenge Dr., Goldendale vicinity, SG100006703

WISCONSIN

Douglas County

Wisconsin Point, Address Restricted, Superior vicinity, SG100006701

Additional documentation has been received for the following resource:

ARKANSAS

Pulaski County

Hillcrest Historic District (Additional Documentation), Bounded by Woodrow, Jackson and Markham Sts. and North Lookout Rd., Little Rock, AD90001920

Authority: Section 60.13 of 36 CFR part 60.

Dated: June 2, 2021.
Sherry A. Frear,
Chief, National Register of Historic Places/National Historic Landmarks Program.

[FR Doc. 2021-12307 Filed 6-10-21; 8:45 am]

BILLING CODE 4312-52-P